DEPARTMENT OF COMMERCE

National Oceanic and Atmospheric Administration

RIN 0648-XA102

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a meeting of the Vessel Monitoring System (VMS) Advisory Panel.

DATES: The meeting will convene at 8:30 a.m. on Thursday, January 13, 2011 and conclude by 4 p.m. on Thursday, January 13, 2011.

ADDRESSES: The meeting will be held at the Crowne Plaza Hotel 5303 West Kennedy Boulevard, Tampa, FL 33609; telephone: (813) 289-1950.

Council address: Gulf of Mexico Fishery Management Council, 2203 N. Lois Avenue, Suite 1100, Tampa, FL 33607.

FOR FURTHER INFORMATION CONTACT: Dr. John Froeschke, Fishery Biologist-Statistician; Gulf of Mexico Fishery Management Council; telephone: (813) 348-1630 x235.

SUPPLEMENTARY INFORMATION: The Vessel Monitoring System (VMS) Advisory Panel will meet to discuss operation, design, usage of vessel monitoring systems, and resulting data from these systems. The Advisory Panel will discuss the potential role of VMS in enhanced seafood traceability in Gulf of Mexico fisheries. This will include status and review of existing seafood traceability programs and potential mechanisms to enhance seafood safety in the future. The Advisory Panel will also consider technical issues with VMS and consider potential solutions to use VMS more effectively, increase user-friendliness of VMS units including enhanced communication for reporting fishing activities. Finally, the Advisory Panel will also consider future roles and potential applications of VMS software in Gulf of Mexico fisheries. The meeting will conclude with draft recommendations presented to the Gulf of Mexico Fishery Management Council at its February 7-10, 2011 meeting in Gulfport, MS.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Trish Kennedy at the Council (see ADDRESSES) at least 5 working days prior to the meeting.

Dated: December 17, 2010.
Tracey L. Thompson,
Acting Director, Office of Sustainable Fisheries, National Marine Fisheries Service.

[FR Doc. 2010-32082 Filed 12-21-10; 8:45 am]

BILLING CODE 3510-22-P